DEPARTMENT OF TRANSPORTATION

Federal Aviation Administration

14 CFR Part 39

[Docket No. FAA-2007-0229; Directorate Identifier 2007-NM-042-AD]

RIN 2120-AA64

Airworthiness Directives; Airbus Model A330-200, A330-300, A340-200, and A340-300 Series Airplanes

AGENCY: Federal Aviation Administration (FAA), Department of Transportation (DOT).

ACTION: Notice of proposed rulemaking (NPRM).

SUMMARY: The FAA proposes to supersede an existing airworthiness directive (AD) that applies to all Airbus Model A330-200, A330-300, A340-200, and A340-300 series airplanes. The existing AD currently requires a revision of the airplane flight manual to include procedures for a pre-flight elevator check before each flight, repetitive inspections for cracks of the attachment lugs of the mode selector valve position transducers on the elevator servo controls, and corrective actions if necessary. This proposed AD would retain the existing requirements, reduce the applicability of the existing AD, and add terminating actions. For certain airplanes, this proposed AD would require upgrading the flight control primary computers. This proposed AD results from cracks of the transducer body at its attachment lugs. We are proposing this AD to ensure proper functioning of the elevator surfaces, and to prevent cracking of the attachment lugs, which could result in partial loss of elevator function and consequent reduced controllability of the airplane.

DATES: We must receive comments on this proposed AD by December 26, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Comments Invited

We invite you to send any written relevant data, views, or arguments about this proposed AD. Send your comments to an address listed under the ADDRESSES section. Include “Docket No. FAA-2007-0229; Directorate Identifier 2007-NM-042-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On February 2, 2004, we issued AD 2004-03-24, amendment 39-13468 (69 FR 6549, February 11, 2004), for all Airbus Model A330-200, A330-300, A340-200, and A340-300 series airplanes. That AD requires a revision of the airplane flight manual to include procedures for a pre-flight elevator check before each flight, repetitive inspections for cracks of the attachment lugs of the mode selector valve position transducers on the elevator servo controls, and corrective actions if necessary. That AD resulted from a report of cracks of the transducer body at its attachment lugs. We issued that AD to ensure proper functioning of the elevator surfaces, and to detect and correct cracking of the attachment lugs, which could result in partial loss of elevator function and consequent reduced controllability of the airplane.

Actions Since Existing AD Was Issued

The preamble to AD 2004-03-24 explains that we consider the requirements “interim action” and were considering further rulemaking. We now have determined that further rulemaking is indeed necessary, and this proposed AD follows from that determination.

Relevant Service Information

The following service information has been issued:

Service Information
Service information | Description
Airbus Service Bulletin A330-27-3128, dated May 3, 2005 (for Model A330-200 and -300 series airplanes); and Airbus Service Bulletin A340-27-4129, dated May 3, 2005 (for Model A340-200 and -300 series airplanes) | Inspection of the elevator servo control to determine whether part number (P/N) SC4800-7A or -9 is installed, and modification of the four elevator servo controls if necessary.
Airbus Service Bulletin A340-27-4131, dated February 21, 2005 (for Model A340-200 and -300 series airplanes) | Upgrade of flight control primary computers (FCPCs).
Goodrich Actuation Systems Service Bulletin SC4800-27-16, Revision 3, dated May 19, 2006 | Inspection of the elevator servo controls, P/N SC4800-10 and SC4800-11, to determine the serial number (S/N) installed, and replacement of the mode selector valve position transducer (MVT) of the elevator servo controls with a new MVT if necessary.
TRW Service Bulletin SC4800-27-34-09, Revision 1, dated November 9, 2001 | Replacement of the eye-end equipped with a self-lubricated bearing with a new eye-end equipped with a roller bearing, greasing of the new eye-end, and reidentification of the servo control. These actions must be done prior to or concurrently with the actions specified in Goodrich Actuation Systems Service Bulletin SC4800-27-16.

Airbus Service Bulletin A340-27-4131 refers to Airbus Vendor Service Bulletins LA2K0-27-017 and LA2K1-27-009, both dated January 25, 2005, as additional sources of service information for upgrading the FCPCs.

Airbus Service Bulletins A330-27-3128 and A340-27-4129 refer to Goodrich Actuation Systems Service Bulletin SC4800-27-16, Revision 3, dated May 19, 2006, as an additional source of service information for accomplishing the modification of the four elevator servo controls.

Accomplishing the actions specified in Airbus Service Bulletin A330-27-3128 or A340-27-4129, as applicable, Goodrich Actuation Systems Service Bulletin SC4800-27-16, and TRW Service Bulletin SC4800-27-34-09, if required, would cancel the requirements of AD 2004-03-24. Accomplishing the actions specified in the service information is intended to adequately address the unsafe condition. The European Aviation Safety Agency (EASA), which is the Technical Agent for the Member States of the European Community, mandated the service information and issued airworthiness directive 2007-0011, dated January 9, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2004-03-24 and would retain the requirements of the existing AD. This proposed AD also would require accomplishing the actions specified in service information described previously. Accomplishing the actions specified in Airbus Service Bulletin A330-27-3128 or A340-27-4129, as applicable, Goodrich Actuation Systems Service Bulletin SC4800-27-16, and TRW Service Bulletin SC4800-27-34-09, if required, would constitute terminating action for the retained requirements of 2004-03-24. This proposed AD also would remove airplanes from the applicability of the existing AD.

Changes to Existing AD

This proposed AD would retain all requirements of AD 2004-03-24. Since AD 2004-03-24 was issued, the AD format has been revised, and certain paragraphs have been rearranged. As a result, the corresponding paragraph identifiers have changed in this proposed AD, as listed in the following table:

Revised Paragraph Identifiers
Requirement in AD 2004-03-24 | Corresponding requirement in this proposed AD
Paragraph (a) | Paragraph (f).
Paragraph (b) | Paragraph (g).
Paragraph (c) | Paragraph (h).
Paragraph (d) | Paragraph (i).
Paragraph (e) | Paragraph (j).
Paragraph (f) | Paragraph (k).

AD 2004-03-24 affects all Airbus Model A330-200, A330-300, A340-200, and A340-300 series airplanes. The applicability of this proposed AD would exclude those airplanes on which a reinforced mode selector valve has been installed, which parallels the applicability of EASA airworthiness directive 2007-0011.

Costs of Compliance

The following table provides the estimated costs for U.S. operators of the affected Model A330-200 and A330-300 series airplanes to comply with this proposed AD.

Estimated Costs
Action | Work hours | Average labor rate per hour | Cost per airplane | Number of U.S.-registered airplanes | Fleet cost
AFM revision (required by AD 2004-03-24) | 1 | $80 | $80 | 29 | $2,320.
Inspection (required by AD 2004-03-24) | 4 | $80 | $320, per inspection cycle | 29 | $9,280, per inspection cycle.
Inspection (new proposed action) | 1 | $80 | $80 | 29 | $2,320.

Currently, there are no affected Model A340-200 and A340-300 series airplanes on the U.S. Register. However, if an affected airplane is imported and placed on the U.S. Register in the future, the proposed upgrade of the FCPCs would take about 2 work hours, at an average labor rate of $80 per work hour. The manufacturer states that it would supply required parts to the operators at no cost. Based on these figures, we estimate the cost of this proposed AD for Model A340-200 and A340-300 series airplanes to be $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13468 (69 FR 6549, February 11, 2004) and adding the following new airworthiness directive (AD):

Airbus: Docket No. FAA-2007-0229; Directorate Identifier 2007-NM-042-AD.

Comments Due Date

(a) The FAA must receive comments on this AD action by December 26, 2007.

Affected ADs

(b) This AD supersedes AD 2004-03-24.

Applicability

(c) This AD applies to the airplanes identified in Table 1 of this AD, certificated in any category.

Table 1.—Applicability
Airbus model— | Excluding those airplanes on which any of the following— | Has been installed—
A330-200, A330-300, A340-200, and A340-300 series airplanes | Airbus modification 50394, 52195, 53969, or 54833 | In production.
| Airbus Service Bulletin A330-27-3128, dated May 3, 2005 | In service.
| Airbus Service Bulletin A340-27-4129, dated May 3, 2005 | In service.
| Airbus Service Bulletin A330-27-3136, Revision 01, dated July 19, 2006 | In service.
| Airbus Service Bulletin A340-27-4135, dated January 12, 2006 | In service.
| Goodrich Actuation Systems Service Bulletin SC4800-27-16, Revision 03, dated May 19, 2006 | In service.

Unsafe Condition

(d) This AD results from a report of cracks of the transducer body at its attachment lugs. We are issuing this AD to ensure proper functioning of the elevator surfaces, and to prevent cracking of the attachment lugs, which could result in partial loss of elevator function and consequent reduced controllability of the airplane.

Compliance

(e) You are responsible for having the actions required by this AD performed within the compliance times specified, unless the actions have already been done.

Requirements of AD 2004-03-24

Airplane Flight Manual (AFM) Revision

(f) Within 30 days after February 26, 2004 (the effective date of AD 2004-03-24), revise the Limitations section of the AFM to include a pre-flight elevator check, by including the following language. This may be done by inserting a copy of this AD into the applicable AFM. Thereafter perform the pre-flight check before every flight in accordance with the procedure.

Prior or During Taxi

“FLIGHT CONTROLS—CHECK

1. AT A CONVENIENT STAGE, PRIOR TO OR DURING TAXI, AND BEFORE ARMING THE AUTOBRAKE, THE PF SILENTLY APPLIES FULL LONGITUDINAL AND LATERAL SIDESTICK DEFLECTION. ON THE F/CTL PAGE, THE PNF CHECKS FULL TRAVEL OF ALL ELEVATORS AND ALL AILERONS, AND THE CORRECT DEFLECTION AND RETRACTION OF ALL SPOILERS. THE PNF CALLS OUT “FULL UP,” “FULL DOWN,” “NEUTRAL,” “FULL LEFT,” “FULL RIGHT,” “NEUTRAL,” AS EACH FULL TRAVEL/NEUTRAL POSITION IS REACHED. THE PF SILENTLY CHECKS THAT THE PNF CALLS ARE IN ACCORDANCE WITH THE SIDESTICK ORDER.

NOTE: IN ORDER TO REACH FULL TRAVEL, FULL SIDESTICK MUST BE HELD FOR A SUFFICIENT PERIOD OF TIME.

2. THE PF PRESSES THE PEDAL DISC PUSHBUTTON ON THE NOSEWHEEL TILLER, AND SILENTLY APPLIES FULL LEFT RUDDER, FULL RIGHT RUDDER, AND NEUTRAL. THE PNF CALLS OUT “FULL LEFT,” “FULL RIGHT,” “NEUTRAL,” AS EACH FULL TRAVEL/NEUTRAL POSITION IS REACHED.

3. THE PNF APPLIES FULL LONGITUDINAL AND LATERAL SIDESTICK DEFLECTION, AND SILENTLY CHECKS FULL TRAVEL AND CORRECT SENSE OF ALL ELEVATORS AND ALL AILERONS, AND CORRECT DEFLECTION AND RETRACTION OF ALL SPOILERS, ON THE ECAM F/CTL PAGE.”

Note 1: Full and complete elevator travel (position commanded) can be verified on the ECAM Flight Control Page. A determination of “correct sense” should include verification that there is complete and full motion of the sidesticks without binding.

(g) If any pre-flight check required by paragraph (f) of this AD reveals improper function of the elevator: Before further flight, perform the inspections required by paragraph (h) of this AD.

Inspections

(h) At the applicable time specified in paragraph (h)(1) or (h)(2) of this AD, except as required by paragraph (g) of this AD: Perform a dye penetrant inspection of the attachment lugs of the mode selector valve position transducers on each elevator servo control installed at damping positions 3CS1 and 3CS2. Do the inspection in accordance with the Accomplishment Instructions of Airbus Service Bulletin A330-27A3115 or A340-27A4119, both Revision 02, both dated December 30, 2003, as applicable (in paragraphs (h) through (k) of this AD, referred to as “the service bulletin”). An inspection that is done before February 26, 2004, is acceptable for compliance with the initial inspection requirement of this paragraph, if the inspection is done in accordance with any of the following Airbus All Operators Telexes (AOTs): AOT A330-27A3115 or A340-27A4119, dated September 11, 2003, or Revision 01 of each AOT dated September 25, 2003; as applicable. Repeat the inspection thereafter at intervals not to exceed 350 flight cycles, until the applicable actions required by paragraphs (m) and (n) of this AD have been done.

(1) If the age of the servo control from the date of its first installation on the airplane can be positively determined: Do the inspection before the accumulation of 1,000 total flight cycles on the elevator servo control, or within 350 flight cycles on the servo control after February 26, 2004, whichever occurs later.

(2) If the age of the servo control from the date of its first installation on the airplane cannot be positively determined, do the inspection within 350 flight cycles on the servo control after February 26, 2004.

Note 2: The service bulletin refers to Goodrich Actuation Systems Inspection Service Bulletin SC4800-27-13 as an additional source of service information for the inspection.

Corrective Actions

(i) If any crack is found during any inspection required by paragraph (h) of this AD: Before further flight, replace either the transducer or servo control with a new part, in accordance with the service bulletin.

Reporting Requirement

(j) If any crack is found during any inspection required by paragraph (h) of this AD: Submit a report in accordance with the service bulletin at the applicable time(s) specified in paragraphs (j)(1) and (j)(2) of this AD: Submit reports to Airbus Customer Services, Engineering and Technical Support, Attention: J. Laurent, SEE53, fax +33/(0)5.61.93.44.25, Sita Code TLSBQ7X. Under the provisions of the Paperwork Reduction Act of 1980 (44 U.S.C. 3501 et seq.), the Office of Management and Budget (OMB) has approved the information collection requirements contained in this AD and has assigned OMB Control Number 2120-0056.

(1) For an initial inspection done before February 26, 2004: Submit the report within 30 days after February 26, 2004.

(2) For an inspection done after February 26, 2004: Submit the report within 30 days after the inspection.

Parts Installation

(k) As of February 26, 2004, no person may install the following part on any airplane: A transducer, or a transducer fitted on an elevator servo control, in the operator's inventory before September 25, 2003, unless that transducer has been inspected in accordance with the service bulletin and is crack free.

New Requirements of This AD

Upgrade Flight Control Primary Computers (FCPCs)

(l) For Model A340-200 and -300 series airplanes: Within 2 months after the effective date of this AD, upgrade the three FCPCs in accordance with the Accomplishment Instructions of Airbus Service Bulletin A340-27-4131, dated February 21, 2005.

Note 3: Airbus Service Bulletin A340-27-4131 refers to Airbus Vendor Service Bulletins LA2K0-27-017 and LA2K1-27-009, both dated January 25, 2005, as additional sources of service information for upgrading the FCPCs.

Terminating Actions

(m) Within 17 months after the effective date of this AD, do the actions specified in Table 2 of this AD.

Table 2.—Terminating Actions
Inspect— | In accordance with the accomplishment instructions of airbus service bulletin— | And if— | Then— | In accordance with—
(1) The elevator servo control to determine whether part number (P/N) SC4800-7A or -9 is installed | A330-27-3128, dated May 3, 2005 (for Model A330-200 and -300 series airplanes); or A340-27-4129, dated May 3, 2005 (for Model A340-200 and -300 series airplanes); as applicable | P/N SC4800-7A or -9 is found installed | Modify the four elevator servo controls | The Accomplishment Instructions of the applicable Airbus service bulletin.
(2) The elevator servo controls, P/N SC4800-10 and SC4800-11 to determine the serial number (S/N) installed | None | S/N 2324 or below is found installed | Replace the mode selector valve position transducer (MVT) of the elevator servo controls with a new MVT | Paragraphs 3.(2) and 3.B.(2) of the Accomplishment Instructions of Goodrich Actuation Systems Service Bulletin SC4800-27-16, Revision 3, dated May 19, 2006.

Note 4: Airbus Service Bulletins A330-27-3128 and A340-27-4129 refer to Goodrich Actuation Systems Service Bulletin SC4800-27-16, Revision 3, dated May 19, 2006, as an additional source of service information for accomplishing the modification of the four elevator servo controls.

(n) Prior to or concurrently with the replacement, if required, specified in paragraph (m)(2) of this AD, replace the eye-end equipped with a self-lubricated bearing with a new eye-end equipped with a roller bearing, grease the new eye-end, and reidentify the servo control, in accordance with paragraph 2.A. of the Accomplishment Instructions of TRW Service Bulletin SC4800-27-34-09, Revision 1, dated November 9, 2001.

(o) Accomplishing all of the applicable actions required by paragraphs (m) and (n) of this AD constitutes terminating action for paragraphs (f) through (k) of this AD.

Alternative Methods of Compliance (AMOCs)

(p)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(q) EASA airworthiness directive 2007-0011, dated January 9, 2007, also addresses the subject of this AD.

Issued in Renton, Washington, on November 13, 2007.
Ali Bahrami,
Manager, Transport Airplane Directorate, Aircraft Certification Service.

[FR Doc. E7-22921 Filed 11-23-07; 8:45 am]

BILLING CODE 4910-13-P